GENERAL SERVICES ADMINISTRATION

[Notice-PBS-2019-05; Docket No. 2019-0002; Sequence No. 14]

Notice of Intent To Prepare an Environmental Impact Statement for Land Ports of Entry

AGENCY: Public Buildings Service (PBS), General Services Administration (GSA).

ACTION: Revised Notice of Intent; meeting updates.

SUMMARY: The Federal Motor Carrier Safety Administration (FMCSA) and the GSA have partnered to develop a program of projects at a number of Land Ports of Entry (LPOEs) so that FMCSA agents can safely and effectively inspect both commercial truck and bus traffic. GSA intends to prepare an Environmental Impact Statement (EIS) to analyze the potential impacts from the proposed construction of six (6) inspection facilities at five (5) different LPOEs in both California and Arizona. A NOI was published concerning the EIS and scoping meetings on May 23, 2019. The revised Notice of Intent is to notify interested parties that dates for the scoping meetings have changed for the two (2) Arizona Sites. Meetings for the California scoping meetings have not changed.

DATES: The views and comments of the public are necessary to help determine the scope and content of the environmental analysis. Interested parties are encouraged to attend and provide written comments regarding the scope of the EIS and the proposed facilities by August 2, 2019.

Updated scoping meetings for the two (2) Arizona sites are listed below:

• San Luis II, AZ, Wednesday, July 17, 2019, 4:00 p.m. to 6:00 p.m.

• Nogales Mariposa, AZ, Thursday, July 18, 2019, 4:00 p.m. to 6:00 p.m.

ADDRESSES: The meetings will be conducted in an open house format, where project information will be presented and distributed. Comments regarding the scope of the EIS and the proposed facilities may be sent to the point of contact listed in the FOR FURTHER INFORMATION section.

The meetings will be held at the following locations:

• San Luis II, AZ Site, Holiday Inn Express and Suites Yuma, 2044 S Avenue 3E, Yuma, AZ 85365, (928) 317-1400,

• Nogales Mariposa, AZ Site, Holiday Inn Express Nogales, 850 W Shell Road, Nogales, AZ 85621, telephone (520) 281-0123.

FOR FURTHER INFORMATION CONTACT:

• Email: Osmahn Kadri at osmahn.kadri@gsa.gov,

• Mail: Attn: Osmahn Kadri, NEPA Program Manager, 50 United Nations Plaza, 3345, Mailbox #9, San Francisco, CA 94102.

• Telephone: (415) 522-3617 (Please also call this number if special assistance is needed to attend and participate in the public scoping meetings).

SUPPLEMENTARY INFORMATION:

Background

The FMCSA mission includes ensuring that commercial vehicles entering the United States (U.S.) and travelling on U.S. Highways are operating safely and within current U.S. standards. To achieve this mission and ensure safety on public highways, FMCSA must inspect commercial and bus traffic at points of destination or origin, the U.S.-Mexico Border being a main point of origin.

FMCSA inspectors currently inspect both bus and commercial truck traffic at multiple LPOEs along the U.S.-Mexico Border in both California and Arizona at facilities that were not built for their needs and at sites which do not allow for thorough, safe inspection of vehicles. In April of 2018, FMCSA received funding from the Committees of Congress to develop, design, and construct facilities that will allow them to meet their mission goals safely and effectively.

It has been determined that to achieve this mission, six (6) inspection facilities will be needed at five (5) different LPOEs in both California and Arizona. The two (2) Arizona LPOEs are described below:

• Nogales Mariposa, AZ (Commercial Truck Inspection)

• San Luis II, AZ (Commercial Truck Inspection)

Alternatives

The EIS will consider three Alternatives; a “preferred build alternative” for six (6) facilities at five (5) locations, a “smaller footprint” build alternative for six (6) facilities at the same five (5) locations, and a “no action” alternative. The alternatives for the Two (2) Arizona locations are described below:

San Luis II LPOE, AZ

The proposed truck inspection facility would be located on the northern edge of the LPOE property line. A portion of the site work would be constructed on newly acquired Federal land that will allow access from the site after hours. Site work would require the clearing of the existing site, extension of existing utilities for electrical, sanitary sewer and water, paving of the truck path, and relocating the existing CBP impound lot. Facility construction would include an inspection canopy with pits and an FMCSA administration building. The other build alternative would consist of a smaller facility footprint on the same location.

Nogales Mariposa LPOE, AZ

The proposed truck inspection facility would be located on privately owned land, north of the existing LPOE. Site work would require the clearing of the existing site, extension of existing utilities for electrical, sanitary sewer and water, paving of the truck path. Facility construction would include an inspection canopy with pits and a FMCSA administration building. The other build alternative would consist of a smaller facility footprint on the same location.

The “no action” alternative assumes that no new facility would be constructed at any of the sites and the LPOEs and FMCSA operations would continue to operate under current conditions.

Dated: June 18, 2019.
Jared Bradley,
Director, Portfolio Management Division, Pacific Rim Region, Public Buildings Service.

[FR Doc. 2019-13293 Filed 6-20-19; 8:45 am]

BILLING CODE 6820-YF-P